DEPARTMENT OF AGRICULTURE

Forest Service

Trinity County Resource Advisory Committee

AGENCY: Forest Service, USDA Forest Service.

ACTION: Notice of meeting.

SUMMARY: The Trinity County Resource Advisory Committee (RAC) will meet on January 6, 2003, in Weaverville, California. The purpose of the meeting is to discuss the selection of title II projects under Public Law 106-393, H.R. 2389, the Secure Rural Schools and Community Self-Determination Act of 2000, also called the “Payments to States” Act.

DATES: The meeting will be held on January 6, 2003, from 6:30 to 8:30 p.m.

ADDRESSES: The meeting will be held at the Trinity County Office of Education Conference Room, 201 Memorial Drive, Weaverville, California.

FOR FURTHER INFORMATION CONTACT: Ann Garland, Designated Federal Official, USDA, Six Rivers National Forest, P.O. Box 68, Willow Creek, CA 95573. Phone: (530) 629-2118. E-mail: agarland@fs.fed.us.

SUPPLEMENTARY INFORMATION: The committee will discuss the environmental analysis process and project monitoring, fuels projects, and the strategy for future projects. The meeting is open to the public. Public input opportunity will be provided and individuals will have the opportunity to address the committee at that time.

Dated: December 9, 2002.
Bud Zangger,
Acting Forest Supervisor.

[FR Doc. 02-31563 Filed 12-13-02; 8:45 am]

BILLING CODE 3410-11-M